ENVIRONMENTAL PROTECTION AGENCY

40 CFR Parts 52 and 81

[EPA-R09-OAR-2006-0041; FRL-8045-2]

Approval and Promulgation of Implementation Plans; Designation of Areas for Air Quality Planning Purposes; State of Arizona; Particulate Matter of 10 Microns or Less; Finding of Attainment for Yuma Nonattainment Area; Determination Regarding Applicability of Certain Clean Air Act Requirements

AGENCY: Environmental Protection Agency (EPA).

ACTION: Proposed rule.

SUMMARY: EPA is proposing, under the Clean Air Act, to determine that the Yuma nonattainment area in Arizona has attained the National Ambient Air Quality Standards (NAAQS) for particulate matter with an aerodynamic diameter less than or equal to a nominal 10 micrometers (PM10). This proposed determination is based upon monitored air quality data for the PM10 NAAQS during the years 1998-2000. EPA is also proposing to find that the Yuma area is currently in attainment of the PM10 NAAQS, and based on this finding, EPA is proposing to determine that certain Clean Air Act requirements are not applicable for so long as the Yuma area continues to attain the PM10 NAAQS.

DATES: Any comments on this proposal must arrive by April 13, 2006.

ADDRESSES: Submit comments, identified by docket number EPA-R09-OAR-2006-0041, by one of the following methods:

(1) Federal eRulemaking portal: http://www.regulations.gov. Follow the on-line instructions.

(2) E-mail: rosen.rebecca@epa.gov.

(3) Mail or deliver: Rebecca Rosen (AIR-2), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through the http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Rebecca Rosen, EPA Region IX, (415) 947-4152, rosen.rebecca@epa.gov.

SUPPLEMENTARY INFORMATION: This proposal addresses the determination that the Yuma nonattainment area in Arizona has attained the NAAQS for particulate matter with an aerodynamic diameter less than or equal to a nominal 10 micrometers (PM10). This determination is based upon monitored air quality data for PM10 during the years 1998-2000. EPA also proposes to find that the Yuma area is currently attaining the standard, and based on this finding, EPA is proposing to determine that certain requirements that otherwise apply under the Clean Air Act to moderate PM10 nonattainment areas, such as the Yuma area, are not applicable for so long as the area continues to attain the PM10 NAAQS.

In the Rules and Regulations section of this Federal Register, we are taking direct final action to make these determinations because we believe this action is not controversial. If we receive adverse comments, however, we will publish a timely withdrawal of the direct final rule and address the comments in subsequent action based on this proposed rule. We do not plan to open a second comment period, so anyone interested in commenting should do so at this time. If we do not receive comments, no further activity is planned. For further information on this proposal and the rationale underlying our proposed action, please see the direct final action.

Dated: March 1, 2006.
Wayne Nastri,
Regional Administrator, Region IX.

[FR Doc. 06-2429 Filed 3-13-06; 8:45 am]

BILLING CODE 6560-50-P